DEPARTMENT OF HEALTH AND HUMAN SERVICES

Administration for Children and Families

Proposed Information Collection Activity; Early Head Start Family and Child Experiences Survey 2022 (Baby FACES 2022) (OMB #0970-0354)

AGENCY: Office of Planning, Research, and Evaluation, Administration for Children and Families, HHS.

ACTION: Request for public comment.

SUMMARY: The Administration for Children and Families (ACF) at the U.S. Department of Health and Human Services (HHS) seeks approval to continue to collect descriptive information for the Early Head Start Family and Child Experiences Survey 2022 (Baby FACES 2022). This information collection is to provide nationally representative data on Early Head Start (EHS) programs, centers, classrooms, staff, and families to guide program planning, technical assistance, and research. This data collection will complete the previously approved second round of data collection originally planned to take place in 2020 (OMB 0970-0354). The work began in early 2020 but had to be postponed after only 3 weeks due to the COVID-19 pandemic. No changes are proposed to the currently approved information collection materials.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: Baby FACES 2018 and 2022 build upon a prior study (Baby FACES 2009; OMB 0970-0354) that longitudinally followed two cohorts of children through their experience in the program. While the 2009 study provided a great deal of information about program participation over time and about services received by children and families, it did not allow for national level estimates of service quality or inferences about children who enter the program after 15 months of age. To fill these knowledge gaps and to answer additional questions about how programs function, the design for the information collection in 2022 will refresh the nationally representative cross-sectional sample of programs, centers, home visitors, teachers, classrooms, children, and families that was used in Baby FACES 2018. Freshening the sample will allow new programs that came into being since 2018 a chance to enter the study. This design allows for nationally representative estimates at all levels at a point in time and includes the entire age span of enrolled children.

The goal of this work is to obtain updated information on EHS programs and understand better how program processes support relationships (e.g., between home visitors and parents, between parents and children, and between teachers and children) that are hypothesized to lead to improved child and family outcomes.

Respondents: EHS program directors, child care center directors, teachers and home visitors, and parents of enrolled children.

Annual Burden Estimates
[2 year clearance]
Instrument | Number of respondents (total over request period) | Number of responses per respondent (total over request period) | Average burden per response (in hours) | Total burden (in hours) | Annual burden (in hours)
Classroom/home visitor sampling form (from EHS staff) | 407 | 1 | 0.17 | 69 | 35
Child roster form (from EHS staff) | 252 | 1 | 0.33 | 83 | 42
Parent consent form | 2,495 | 1 | 0.17 | 424 | 212
Parent survey | 2,084 | 1 | 0.53 | 1,105 | 553
Parent Child Report | 2,008 | 1 | 0.33 | 663 | 332
Staff survey (Teacher survey and Home Visitor survey) | 1,317 | 1 | 0.5 | 659 | 330
Staff Child Report | 1,046 | 2.13 | 0.25 | 262 | 131
Program director survey | 120 | 1 | 0.5 | 60 | 30
Center director survey | 294 | 1 | 0.5 | 147 | 74
Parent-child interaction | 996 | 1 | 0.17 | 169 | 85

Estimated Total Annual Burden Hours: 1,824.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 645A and 649 of the Improving Head Start for School Readiness Act of 2007.

Mary B. Jones,
ACF/OPRE Certifying Officer.

[FR Doc. 2021-15509 Filed 7-20-21; 8:45 am]

BILLING CODE 4184-22-P